DEPARTMENT OF JUSTICE

Notice of Lodging Proposed Consent Decree

In accordance with Department Policy, 28 CFR 50.7, notice is hereby given that a proposed consent decree in United States v. The Moulis Corporation d/b/a Fox Lake Harbor Marina, and Joseph F. Moulis III, Case No. 04 C 616, was lodged with the United States District Court for the Northern District of Illinois on April 15, 2004. This proposed Consent Decree concerns a complaint filed by the United States against the Defendants pursuant to Section 301(a) of the Clean Water Act (“CWA”), 33 U.S.C. 1311(a) and Section 10 of the Rivers and Harbors Appropriation Act of 1899, 33 U.S.C. 403 (“RHA”), to obtain injunctive relief from and impose civil penalties against the Defendants for filling wetlands on their property without a permit and for installing a boat ramp and associated structures in Fox Lake without a permit.

The proposed Consent Decree prohibits mowing, cutting, clearing, cultivating, dredging, excavating, farming, filling, dewatering, draining or otherwise disturbing in any manner whatsoever the wetland impact area, and requires removal of all fill material from the wetland impact area, and either removal of the ramp and associated structures or the purchase and abandonment of another ramp on Fox Lake. The Consent Decree also requires payment of a civil penalty, and requires payment to a wetland restoration fund.

The Department of Justice will accept written comments relating to this proposed Consent Decree for thirty (30) days from the date of publication of this notice. Please address comments to Kurt Lindland, Assistant United States Attorney, United States Attorney's Office, 5th Floor, 219 S. Dearborn Street, Chicago, Illinois 60604 and refer to United States v. The Moulis Corporation d/b/a Fox Lake Harbor Marina, and Joseph F. Moulis III, Case No. 04 C 616, including the USAO #2003V000633.

The proposed Consent Decree may be examined at the Clerk's Office, United States District Court for the Northern District of Illinois, 219 S. Dearborn Street, Chicago, Illinois. In addition, the proposed Consent Decree may be viewed on the World Wide Web at http://www.usdoj.gov/enrd/open.html.

Kurt N. Lindland,
Assistant United States Attorney.

[FR Doc. 04-9091 Filed 4-21-04; 8:45 am]

BILLING CODE 4410-15-M